DEPARTMENT OF EDUCATION

President's Board of Advisors on Historically Black Colleges and Universities

AGENCY: President's Board of Advisors on Historically Black Colleges and Universities, Department of Education.

ACTION: Notice of meeting.

SUMMARY: This notice sets forth the schedule and agenda of the upcoming meeting of the President's Board of Advisors on Historically Black Colleges and Universities. This notice also describes the functions of the Board. Notice of this meeting is required by section 10(a)(2) of the Federal Advisory Committee Act and is intended to notify the public of its opportunity to attend.

Date: Wednesday, December 10, 2003.

Time: 9 a.m.-3 p.m.

ADDRESSES: The Board will meet in Nashville, TN at the Radisson Hotel Opryland, 2401 Music Valley Drive, Phone: 615-231-8804 Fax: 615-889-6328.

FOR FURTHER INFORMATION CONTACT: Dr. Leonard Dawson, Deputy Director to the Counselor to the Secretary for the White House Initiative on Historically Black Colleges and Universities, 1990 K Street, NW., Washington, DC 20202; telephone: (202) 502-7889.

SUPPLEMENTARY INFORMATION: The President's Board of Advisors on Historically Black Colleges and Universities (Board) is established under Executive Order 13256, dated February 12, 2002. The Board is established (a) to report to the President annually on the results of the participation of historically black colleges and universities (HBCUs) in Federal programs, including recommendations on how to increase the private sector role, including the role of private foundations, in strengthening these institutions, with particular emphasis on enhancing institutional planning and development, strengthening fiscal stability and financial management, and improving institutional infrastructure, including the use of technology, to ensure the long-term viability and enhancement of these institutions; (b) to advise the President and the Secretary of Education (Secretary) on the needs of HBCUs in the areas of infrastructure, academic programs, and faculty and institutional development; (c) to advise the Secretary in the preparation of an annual Federal plan for assistance to HBCUs in increasing their capacity to participate in Federal programs; (d) to provide the President with an annual progress report on enhancing the capacity of HBCUs to serve their students; and (e) to develop, in consultation with the Department of Education and other Federal agencies, a private sector strategy to assist HBCUs.

The purposes of the meeting are to report on the status of recommendations made by the Board at the May 28, 2003 meeting; to discuss reauthorization of the Higher Education Act and plans and reports from the Private Sector Initiative; to consider the Board's annual report to the President on the results of the participation of HBCUs in Federal programs; and to address other critical issues facing HBCUs.

Individuals who will need accommodations for a disability in order to attend the meeting (e.g., interpreting services, assistive listening devices, or material in alternative format) should notify ReShone Moore at (202) 502-7893 no later than November 26, 2003. We will attempt to meet requests for accommodations after this date but cannot guarantee their availability. The meeting site is accessible to individuals with disabilities.

An opportunity for public comment is available on December 16, 2003, between 2 p.m. and 3 p.m. Those members of the public interested in submitting written comments may do so at the address indicated above by Monday, December 1, 2003.

Records are kept of all Board proceedings and are available for public inspection at the Office of the White House Initiative on Historically Black Colleges and Universities, U.S. Department of Education, 1990 K Street, NW., Washington, DC 20006, during the hours of 9 a.m. to 5 p.m.

Dated: October 24, 2003.
Rod Paige,
Secretary of Education, U.S. Department of Education.

[FR Doc. 03-27556 Filed 10-31-03; 8:45 am]

BILLING CODE 4000-01-M